DEPARTMENT OF THE INTERIOR

National Park Service

Notice of Inventory Completion: Hastings Museum of Natural and Cultural History, Hastings, NE

AGENCY: National Park Service, Interior.

ACTION: Notice.

Notice is here given in accordance with the Native American Graves Protection and Repatriation Act (NAGPRA), 25 U.S.C. 3003, of the completion of an inventory of human remains and associated funerary objects in the possession of Hastings Museum of Natural and Cultural History, Hastings, NE. The human remains and associated funerary objects were removed from the Franklin, Harlan, and Webster Counties, NE.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Hastings Museum of Natural and Cultural History professional staff in consultation with representatives of the Crow Tribe of Montana; Omaha Tribe of Nebraska; Otoe-Missouria Tribe of Indians, Oklahoma; Pawnee Nation of Oklahoma; Ponca Tribe of Indians of Oklahoma; Ponca Tribe of Nebraska; Sac & Fox Nation of Missouri in Kansas and Nebraska; Three Affiliated Tribes of the Fort Berthold Reservation, North Dakota; and Wichita and Affiliated Tribes (Wichita, Keechi, Waco & Tawakonie), Oklahoma.

In June 1926, human remains representing a minimum of one individual were removed from the Marshall Ossuary (25HN1) in Harlan County, NE. The human remains were donated to the Hastings Museum by A.M. Brooking, the museum founder (03635). No known individual was identified. The 2,339 associated funerary objects are 2,339 shell beads of various sizes (03636).

The Marshall Ossuary is located on the Republican River and is believed to have been used by the people of the Plains Woodland or Central Plains Tradition.

On April 1, 1938, human remains representing a minimum of one individual were removed from the Wentworth site in Franklin County, NE. The human remains were donated to the museum by Les Goldsbury and cataloged in 1938 (18072). No known individual was identified. No associated funerary objects are present.

Archeological evidence indicates that the Plains Woodland, Central Plains Tradition, and Pawnee people have sporadically lived and hunted in what is now Franklin County.

On unknown date, human remains representing a minimum of two individuals were removed from a grave 2 miles southwest of Franklin in Franklin County, NE. The human remains were given to the Hastings Museum by Les Goldsbury and cataloged in 1936 (16019). No known individuals were identified. No associated funerary objects are present.

On an unknown date, human remains representing a minimum of four individuals were removed from an unknown site around Bloomington, Franklin County, NE. The human remains were donated to the Hastings Museum by Les Goldsbury, Garret Fritzson and A.M. Brooking, and cataloged in 1936 (16024). No known individuals were identified. No associated funerary objects are present.

On an unknown date, human remains representing a minimum of two individuals were removed from an ossuary near Guide Rock, Webster County, NE. The human remains were donated to the Hastings Museum by A.M. Brooking and cataloged in 1934 (12620). No known individuals were identified. No associated funerary objects are present.

In 1932, human remains representing a minimum of three individuals were removed from unknown sites near Guide Rock in Webster County, NE. The human remains were donated to the Hastings Museum by J.C. Samms and A.T. Hill and cataloged in 1934 (12645, 12646, 12647). No known individuals were identified. No associated funerary objects are present.

On an unknown date, human remains representing a minimum of two individuals were removed from one or more ossuaries near Guide Rock, Webster County, NE. The human remains were donated to the Hastings Museum by unknown donors and cataloged between 1934 and 1935 (14015, 13120). No known individuals were identified. No associated funerary objects are present.

According to museum records, the human remains from 2 miles southwest of Franklin in Franklin County were originally cataloged as a complete or nearly complete skeleton for each of the individuals (16019). However, during inventory review in the 1990s, only cranial and partial post cranial remains were found with the accession numbers. Also during inventory review, the museum identified a number of commingled human remains that had been in an exhibit in the late 1930s or early 1940s, which represented human remains taken from ossuaries. When the exhibit closed, unnumbered human remains were mingled together. Officials of the Hastings Museum reasonably believe that some of the commingled remains are part of the individuals described above. Additional sites with commingled human remains are listed in a companion notice.

Franklin and Webster Counties are spanned by the Republican River and have rich river bottoms conducive to agriculture. The Plains Woodland, Central Plains Tradition, and Pawnee people have sporadically lived and hunted in this region for over 1,000 years. There are several known village sites, burial mounds, and ossuaries located within the counties that document all three cultural occupations of this area. Based on museum records, geographic region, documented sites, and morphology reports, museum officials have determined that the human remains are likely associated with Plains Woodland, Central Plains Tradition or Pawnee.

Pawnee oral tradition states that the Central Plains Tradition people are ancestors to the Arikara and Pawnee, and possibly the Wichita. According to Pawnee oral history the Plains Woodlands people are ancestor to the Pawnee, Mandan, Arikara, Hidatsa, and Crow. Oral history information has some of the people of Mill Creek staying behind and becoming part of the Central Plains Tradition based on common oral traditions through origin and corn stories.

Museum officials have determined based on museum records, geographic location, Pawnee oral tradition, and anthropological research that the Central Plains Tradition people are ancestors to the Arikara and Pawnee, and possibly the Wichita. In addition, museum officials have determined based on museum records, geographic location and oral tradition that the Plains Woodland people are ancestors of the Arikara, Crow, Hidatsa, Mandan, and Pawnee. The Arikara, Pawnee, and Wichita have entered into an agreement that human remains and funerary objects located between the Missouri River and the Smokey Hill River shall be claimed by the Pawnee Nation of Oklahoma. The Hidatsa have also agreed that the Pawnee shall make the claim for people and items affiliated with the Plains Woodland from Nebraska.

Officials of the Hastings Museum have determined that, pursuant to 25 U.S.C. 3001 (9-10), the human remains described above represent the physical remains of 15 individuals of Native American ancestry. Officials of the Hastings Museum also have determined that, pursuant to 25 U.S.C. 3001 (3)(A), the 2,339 objects described above are reasonably believed to have been placed with or near individual human remains at the time of death or later as part of the death rite or ceremony. Lastly, officials of the Hastings Museum have determined that, pursuant to 25 U.S.C. 3001 (2), there is a relationship of shared group identity that can be reasonably traced between the Native American human remains and associated funerary objects and the Crow Tribe of Montana; Pawnee Nation of Oklahoma; Three Affiliated Tribes of the Fort Berthold Reservation, North Dakota; and Wichita and Affiliated Tribes (Wichita, Keechi, Waco & Tawakonie), Oklahoma.

Representatives of any other Indian tribe that believes itself to be culturally affiliated with the human remains and associated funerary objects should contact Teresa Kreutzer-Hodson, Hastings Museum of Natural and Cultural History, 1330 N Burlington, PO Box 1286, Hastings, NE 68902, telephone (402) 461-2399, before April 7, 2008. Repatriation of the human remains and associated funerary objects to the Pawnee Nation of Oklahoma may proceed after that date if no additional claimants come forward.

The Hastings Museum of Natural and Cultural History is responsible for notifying the Crow Tribe of Montana; Omaha Tribe of Nebraska; Otoe-Missouria Tribe of Indians, Oklahoma; Pawnee Nation of Oklahoma; Ponca Tribe of Indians of Oklahoma; Ponca Tribe of Nebraska; Sac & Fox Nation of Missouri in Kansas and Nebraska; Three Affiliated Tribes of the Fort Berthold Reservation, North Dakota; and Wichita and Affiliated Tribes (Wichita, Keechi, Waco & Tawakonie), Oklahoma that this notice has been published.

Dated: January 30, 2008.
Sherry Hutt,
Manager, National NAGPRA Program.

[FR Doc. E8-4325 Filed 3-5-08; 8:45 am]

BILLING CODE 4312-50-S